DEPARTMENT OF TRANSPORTATION

Federal Railroad Administration

Notice of Application for Approval of Discontinuance or Modification of a Railroad Signal System

Pursuant to Title 49 Code of Federal Regulations (CFR) Part 235 and 49 U.S.C. 20502(a), the following railroad has petitioned the Federal Railroad Administration (FRA) seeking approval for the discontinuance or modification of a signal system, as detailed below.

Docket Number FRA-2010-0175

Applicant: Elgin, Joliet and Eastern Railway Company, Mr. Timothy Luhm, Manager S&C, 17641 South Ashland Avenue, Homewood, IL 60430.

The Elgin, Joliet and Eastern Railway Company (EJ&E) seeks approval of the proposed discontinuance of the traffic control system (TCS) on the Chicago Division near Gary, Indiana. The proposed discontinuance is from control point (CP) Kirk Yard Junction to, but not including, CP Stockton 2 on the Matteson Subdivision Main 1 and Main 2; and from CP Kirk Yard Junction to, but not including, Stockton 1 on the Lake Front Subdivision Main Track.

The discontinuance consist of the removal of the TCS on Main Track 1 and 2 between milepost (MP) 44.44 and MP 45.41 on the Chicago Division, Matteson Subdivision, and Main Track also known as the Lake Front Line between MP 11.19 and MP 12.10 on the Chicago Division, Lakefront Subdivision, as well as all tracks contained with CP Kirk Yard Junction between MP 45.41 and MP 45.66 on the Chicago Division, Matteson Subdivision.

The reason given for the proposed change is that the TCS impedes train operation on these tracks due to the congestion in the area from the Kirk Yard operations. There are plans in place to change track and switch arrangements in this area to facilitate future operations at Kirk Yard.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-1075) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC on December 23, 2010.
Robert C. Lauby,
Deputy Associate Administrator for Regulatory and Legislative Operations.

[FR Doc. 2010-32850 Filed 12-28-10; 8:45 am]

BILLING CODE 4910-06-P